SECURITIES AND EXCHANGE COMMISSION

[Release No. 34-61008; File No. SR-NASDAQ-2009-094]

Self-Regulatory Organizations; The NASDAQ Stock Market LLC; Notice of Filing and Immediate Effectiveness of Proposed Rule Change To Require That Companies Provide Nasdaq With at least Ten Minutes Prior Notification When Releasing Material Information and Eliminate a Potential Inconsistency With Commission Guidance on the Use of Company Websites To Satisfy Public Disclosure Requirements

Correction

In notice document E9-27998 beginning on page 61186 in the issue of Monday, November 23, 2009, make the following correction:

On page 61186, in the second column, the docket number is corrected to read as set forth above.

[FR Doc. Z9-27998 Filed 12-03-09; 8:45 am]

BILLING CODE 1505-01-D